DEPARTMENT OF COMMERCE

International Trade Administration

[A-570-601]

Tapered Roller Bearings and Parts Thereof, Finished and Unfinished, From the People's Republic of China; Amended Final Results of Antidumping Duty Administrative Review

AGENCY: Import Administration, International Trade Administration, Department of Commerce.

ACTION: Notice of Final Court Decision and Amended Final Results of Administrative Review.

EFFECTIVE DATE: April 15, 2002.

FOR FURTHER INFORMATION CONTACT: George Callen or Richard Rimlinger, Import Administration, International Trade Administration, U.S. Department of Commerce, 14th Street and Constitution Avenue, N.W., Washington, D.C. 20230; telephone (202) 482-0180 or (202) 482-4477, respectively.

SUPPLEMENTARY INFORMATION:

Applicable Statute

Unless otherwise indicated, all citations to the statute and to the Department's regulations are references to the provisions effective January 1, 1995, the effective date of the amendments made to the Tariff Act of 1930 (the Act) by the Uruguay Round Agreements Act (URAA).

Summary

On February 11, 1997, the Department published in the Federal Register its Notice of Final Results and Partial Termination of Antidumping Duty Administrative Review on Tapered Roller Bearings and Parts Thereof, Finished and Unfinished, from the People's Republic of China, 62 FR 6173. This notice covered various exporters for the period June 1, 1994, through May 31, 1995. As a result of litigation, the Court of International Trade (CIT) remanded the results of the review to the Department on July 30, 1999. See Timken Company v. United States, Court No. 97-01-00394, Slip Op. 99-73 (CIT July 30, 1999). The Department submitted its final results of redetermination on remand to the CIT on December 13, 1999; the CIT affirmed the Department's final remand results and dismissed the case. See Timken Company v. United States, Slip Op. 200-13 (CIT February 8, 2000). On December 3, 2001, the Department published in the Federal Register its notice of Tapered Roller Bearings and Parts Thereof, Finished and Unfinished, From the People's Republic of China; Amended Final Results of Antidumping Duty Administrative Reviews, 66 FR 60196 (Amended Final Results). In that notice, the Department published the final margins following affirmation of final remand results by the CIT.

The Amended Final Results did not take into account, however, the final remand results of another decision by the CIT affecting the entries of one firm, Transcom, Inc., during the period of review. See Transcom, Inc. v. United States, Slip Op. 00-157 (CIT November 22, 2000). In that decision, the CIT remanded the case to the Department to liquidate Transcom's entries from certain exporters at a rate equal to the cash deposit required on the merchandise at the time of entry pursuant to 19 CFR 353.22(e).

As there is a final and conclusive court decision in this action, we are amending our final results of review, and we will instruct the Customs Service to liquidate relevant entries of Transcom, Inc., at a rate equal to the cash deposit required on the merchandise at the time of entry for this review period.

This notice is published pursuant to section 751(a) of the Act.

Dated: April 8, 2002.
Faryar Shirzad,
Assistant Secretary for Import Administration.

[FR Doc. 02-9078 Filed 4-12-02; 8:45 am]

BILLING CODE 3510-DS-S